DEPARTMENT OF LABOR

Employment and Training Administration

[TA-W-70,520; TA-W-70,520A]

Amended Certification Regarding Eligibility To Apply for Worker Adjustment Assistance

TA-W-70,520, The Boeing Company, Commercial Aircraft Group, Including On-Site Leased Workers from Comforce Corporation, Adecco, Multax, Inconen, CTS, Hi-Tec, Woods, Ciber, Kelly Services, Analysts International Corp, Comsys, Filter LLC, Excell, Entegee, Chipton-Ross, Ian Martin, Can-Tech, IT Services, IDEX Solutions (NWCAD), Media Logic, HL YOH, Volt, PDS, CDI Corp, Teksystems, Innovative Systems, Inc., Murphy & Associates, Dell, PFI Tech, and RMS Puget Sound, Washington.

TA-W-70,520A, The Boeing Company, Commercial Aircraft Group, Including On-Site Leased Workers from Comforce Corporation, Adecco, Multax, Inconen, CTS, Hi-Tec, Woods, Ciber, Kelly Services, Analysts International Corp, Comsys, Filter LLC, Excell, Entegee, Chipton-Ross, Ian Martin, Can-Tech, IT Services, IDEX Solutions (NWCAD), Media Logic, HL YOH, Volt, PDS, CDI Corp, Teksystems, Innovative Systems, Inc., Murphy & Associates, Dell, Pfi Tech, and RMS Portland, Oregon.

In accordance with Section 223 of the Trade Act of 1974, as amended (“Act”), 19 U.S.C. 2273, the Department of Labor issued a Certification of Eligibility to apply for Worker Adjustment Assistance on October 19, 2009, applicable to workers of The Boeing Company, Commercial Aircraft Group, Puget Sound, Washington, (TA-W-70,520), and The Boeing Company, Commercial Aircraft Group, Portland, Oregon (TA-W-70,520A). The notice was published in the Federal Register on December 11, 2009 (74 FR 65794-65795). The notice was amended on January 8, 2010 to include on-site leased workers. The notice was published in the Federal Register on January 20, 2010 (75 FR 3250-3251). The workers are engaged in activities related to the production of large commercial aircraft.

The company reports that on-site leased workers from Dell, PFI Tech, and RMS were also employed on-site at both the Puget Sound, Washington and Portland, Oregon locations of The Boeing Company, Commercial Aircraft Group. The Department has determined that these workers were sufficiently under the control of the subject firm to be considered leased workers.

Based on these findings, the Department is amending the certification to include leased workers from Dell, PFI Tech, and RMS working on-site at the Puget Sound, Washington and Portland, Oregon locations of The Boeing Company, Commercial Aircraft Group.

The amended notice applicable to the TA-W-70,520 and TA-W 70,520A is hereby issued as follows:

“All workers of The Boeing Company, Commercial Aircraft Group, including on-site leased workers from Comforce Corporation, Adecco, Multax, Inconen, CTS, Hi-Tec, Woods, Ciber, Kelly Services, Analysts International Corp, Comsys, Filter LLC, Excell, Entegee, Chipton-Ross, Ian Martin, Can-Tech, IT Services, IDEX Solutions (NWCAD), Media Logic, HL YOH, Volt, PDS, CDI Corp, Teksystems, Innovative Systems, Inc., Murphy & Associates, Dell, PFI Tech, and RMS, Puget Sound, Washington (TA-W-70,520), and Portland, Oregon (TA-W-70,520A), who became totally or partially separated from employment on or after May 22, 2008, through October 19, 2011, and all workers in the group threatened with total or partial separation from employment on the date of certification through two years from the date of certification, are eligible to apply for adjustment assistance under Chapter 2 of Title II of the Trade Act of 1974, as amended.”

Signed in Washington, DC, this 26th day of March 2010.
Michael W. Jaffe,
Certifying Officer, Division of Trade Adjustment Assistance.

[FR Doc. 2010-8871 Filed 4-16-10; 8:45 am]

BILLING CODE 4510-FN-P